DEPARTMENT OF HEALTH AND HUMAN SERVICES

National Institutes of Health

Office of the Director, National Institutes of Health; Notice of Meeting

Pursuant to section 10(a) of the Federal Advisory Committee Act, as amended (5 U.S.C. Appendix 2), notice is hereby given of a meeting of the Recombinant DNA Advisory Committee.

The meeting will be open to the public, with attendance limited to space available. Individuals who plan to attend and need special assistance, such as sign language interpretation or other reasonable accommodations, should inform the contact person listed below in advance of the meeting.

Name of Committee: Recombinant DNA Advisory Committee (RAC).

Date: June 18, 2003.

Open: 8:30 a.m. to 5 p.m.

Agenda: In addition to protocol review and Data Management, the NIH RAC will: Review presentations from the 2003 annual meeting of the American Society of Gene Therapy relevant to retroviral vectors; discuss the Recommendations of the United Kingdom Gene Therapy Advisory Committee and Committee of Safety of Medicine on Retroviruses; discuss future presentations to the RAC on retroviral gene transfer; and discuss an in-depth assessment regarding containment level requirements for Modified Vaccinia Ankara Pox viral vectors.

Place: Bethesda Marriott Hotel, 5151 Pooks Hill Road, Bethesda, MD 20814.

Name of Committee: Recombinant DNA Advisory Committee (RAC).

Date: June 19, 2003.

Open: 8:30 a.m. to 12 p.m.

Agenda: A presentation on preliminary results of an NIH-funded research project on informed consent and review and discuss the RAC Informed Consent Working Group draft guidance document.

Place: Bethesda Marriott Hotel, 5151 Pooks Hill Road, Bethesda, MD 20814.

Contact: Stephen Rose, PhD, Executive Secretary, Recombinant DNA Advisory Committee, Office of Biotechnology Activities, Rockledge 1, Room 750, Bethesda, MD 20892, (301) 396-9839.

Information is also available on the Institute's/Center's Home page: www4.od.nih.gov/oba, where an agenda and any additional information for the meeting will be posted when available.

OMB's “Mandatory Information Requirements for Federal Assistance Program Announcements” (45 FR 39592, June 11, 1980) requires a statement concerning the official government programs contained in the Catalog of Federal Domestic Assistance. Normally NIH lists in its announcements the number and title of affected individual programs for the guidance of the public. Because the guidance in this notice covers virtually every NIH and Federal research program in which DNA recombinant molecules techniques could be used, it has been determined not to be cost effective or in the pubic interest to attempt to list these programs. Such a list would likely require several additional pages. In addition, NIH could not be certain that every Federal program would be included as many Federal agencies, as well as private organizations, both national and international, have elected to follow the NIH Guidelines. In lieu of the individual programs listed in the Catalog of Federal Domestic Assistance are affected

(Catalogue of Federal Domestic Assistance Program Nos. 93.14, Intramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936, NIH Acquired Immunodeficiency Syndrome Research Loan Repayment Program, National Institutes of Health, HHS)

Dated: May 29, 2003.
LaVerne Y. Stringfield,
Director, Office of Federal Advisory Committee Policy.

[FR Doc. 03-14263 Filed 6-5-03; 8:45 am]

BILLING CODE 4140-01-M